NUCLEAR REGULATORY COMMISSION

10 CFR Part 140

[NRC-2013-0072]

RIN 3150-AJ25

Inflation Adjustments to the Price-Anderson Act Financial Protection Regulations; Corrections

AGENCY: Nuclear Regulatory Commission.

ACTION: Correcting amendments.

SUMMARY: The U.S. Regulatory Commission (NRC) published a final rule in the Federal Register on July 12, 2013, to amend its regulations to satisfy a statutory requirement to adjust the maximum total and annual standard deferred premiums specified in the Price-Anderson Act for inflation at least once during each 5-year period following August 20, 2003. This correcting amendment makes a necessary conforming change to a concomitant NRC regulation.

DATES: This rule is effective on July 9, 2014.

ADDRESSES: Please refer to Docket ID NRC-2013-0072 when contacting the NRC about the availability of information for this final rule. You may obtain publicly-available information related to this final rule by any of the following methods:

• Federal Rulemaking Web site: Go to http://www.regulations.gov and search for Docket ID NRC-2013-0072. Address questions about NRC dockets to Carol Gallagher; telephone: 301-287-3422; email: Carol.Gallagher@nrc.gov. For technical questions, contact the individual listed in the FOR FURTHER INFORMATION CONTACT section of this final rule.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Michael Purdie, Office of the Nuclear Reactor Regulation, U.S. Nuclear Regulatory Commission, Washington DC 20555-0001, telephone 301-415-0244, email: Michael.Purdie@nrc.gov.

SUPPLEMENTARY INFORMATION: The NRC published a final rule in the Federal Register on July 12, 2013 (78 FR 41835), that amended its regulations at part 140 of Title 10 of the Code of Federal Regulations (10 CFR) to satisfy the requirement in section 170t., “Inflation Adjustment,” of the Atomic Energy Act of 1954, as amended, to adjust the maximum total and annual standard deferred premiums specified in the Price-Anderson Act for inflation at least once during each 5-year period following August 20, 2003. The final rule amended the numerical dollar amounts of the deferred premiums listed in 10 CFR 140.11(a)(4). A concomitant NRC regulation at 10 CFR 140.21 also states the numerical dollar amount of the deferred premium, but was not amended in the final rule. The regulations at 10 CFR 140.21 should cross-reference the deferred premium as stated at 10 CFR 140.11(a)(4). This amendment corrects the final rule by making the conforming change.

Rulemaking Procedure

Under the Administrative Procedure Act (5 U.S.C. 553(b)), an agency may waive the normal notice and comment requirements if it finds, for good cause, that they are impracticable, unnecessary, or contrary to the public interest. As authorized by 5 U.S.C. 553(b)(3)(B), the NRC finds good cause to waive notice and opportunity for comment on the amendments because they will have no substantive impact and are of a minor and administrative nature dealing with corrections to certain CFR sections related only to management, organization, procedure, and practice. Specifically, these amendments are to make a conforming change to the regulations to comply with a mandatory statutory requirement. These amendments do not require action by any person or entity regulated by the NRC. Also, this document does not change the substantive responsibilities of any person or entity regulated by the NRC. Furthermore, for the reasons stated, the NRC finds, in accordance with 5 U.S.C. 553(d)(3), that good cause exists to make this rule effective upon publication of this notice.

List of Subjects in 10 CFR Part 140

Criminal penalties, Extraordinary nuclear occurrence, Insurance, Intergovernmental relations, Nuclear materials, Nuclear power plants and reactors, Reporting and recordkeeping requirements.

For the reasons set out in the preamble and under the authority of the Atomic Energy Act of 1954, as amended; the Energy Reorganization Act of 1974, as amended; and 5 U.S.C. 552 and 553, the NRC is adopting the following correcting amendments to 10 CFR part 140.

PART 140—FINANCIAL PROTECTION REQUIREMENTS AND INDEMNITY AGREEMENTS

1. The authority citation for part 140 continues to read as follows:

Authority: Atomic Energy Act secs. 161, 170, 223, 234 (42 U.S.C. 2201, 2210, 2273, 2282); Energy Reorganization Act secs. 201, as amended, 202 (42 U.S.C. 5841, 5842); Government Paperwork Elimination Act sec. 1704 (44 U.S.C. 3504 note); Energy Policy Act of 2005, Pub. L. 109-58, 119 Stat. 594 (2005).

2. Revise the introductory text of § 140.21 to read as follows:

§ 140.21 Licensee guarantees of payment of deferred premiums.

Each licensee required to have and maintain financial protection for each nuclear reactor as determined in § 140.11(a)(4) shall at the issuance of the license and annually, on the anniversary of the date on which the indemnity agreement is effective, provide evidence to the Commission that it maintains one of the following types of guarantee of payment of deferred premium in the amount specified in § 140.11(a)(4) for each reactor it is licensed to operate:

* * * * *

Dated at Rockville, Maryland, this 2nd day of July, 2014.
For the Nuclear Regulatory Commission.
Cindy Bladey,
Chief, Rules, Announcements, and Directives Branch. Office of Administration.

[FR Doc. 2014-15985 Filed 7-8-14; 8:45 am]

BILLING CODE 7590-01-P